DEPARTMENT OF HEALTH AND HUMAN SERVICES

Office of the Secretary

Office of the Director, National Institutes of Health; Amended Notice of Meeting

Notice is hereby given of a change in the meeting of the Secretary's Advisory Committee on Genetics, Health, and Society, October 8, 2009, 8 a.m. to October 9, 2009, 3:30 p.m., Department of Health and Human Services, Washington, DC 20201 which was published in the Federal Register on August 17, 2009, 74FR41436.

This notice is being amended to change the meeting location to the Park Hyatt Hotel, 1201 24th Street, NW., Washington, DC 20037. The meeting is open to the public.

Dated: September 23, 2009.
Jennifer Spaeth,
Director, Office of Federal Advisory Committee Policy.

[FR Doc. E9-23341 Filed 9-25-09; 8:45 am]

BILLING CODE 4140-01-P